NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 31, 2009. Once the appraisal of the records is completed, NARA will send a copy of the schedule. NARA staff usually prepare appraisal memoranda that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Risk Management Agency (N1-258-08-10, 11 items, 8 temporary items). Background materials that relate to the development of agency handbooks and policy documents as well as policy materials that relate to routine internal administrative matters. Proposed for permanent retention are records that relate to policies that pertain to the agency's mission and internal management.

2. Department of Agriculture, Risk Management Agency (N1-258-08-18, 3 items, 2 temporary items). General legislative relations records that do not pertain to specific program areas and copies of records maintained by offices other than the office of record that relate to external relations. Proposed for permanent retention are external relations records maintained in the office of record that relate to high level policy issues involving other nations, Federal, state, and local governmental agencies, the President, and Congress.

3. Department of Agriculture, Risk Management Agency (N1-258-08-23, 2 items, 1 temporary item). Copies of press releases maintained by offices other than the office of record. Press releases maintained by the office of record are proposed for permanent retention.

4. Department of the Army, Agency-wide (N1-AU-09-16, 1 item, 1 temporary item). Master files of an electronic information system that contains training requirements and resources data, such as course descriptions, quota allocations, and identification information concerning students and instructors. Annual reports generated from the data were previously approved for permanent retention.

5. Department of the Army, Agency-wide (N1-AU-09-35, 1 item, 1 temporary item). Master files of an electronic information system that contains information used to create enlisted personnel distribution targets. Included is data relating to military occupational skill codes, unit identification codes, grades, and authorizations as well as strength data.

6. Department of the Army, Agency-wide (N1-AU-09-36, 1 item, 1 temporary item). Master files of an electronic information system that contains data used to verify whether an individual should remain on active duty or is eligible for transfer to a reserve component.

7. Department of the Army, Agency-wide (N1-AU-09-37, 1 item, 1 temporary item). Master files of an electronic information system that is used to manage the assignments of enlisted personnel.

8. Department of Commerce, National Institute of Standards and Technology (N-167-09-1, 4 items, 2 temporary items). Files relating to the processing of applications for the Malcolm Baldrige National Quality Award, an award which recognizes quality achievements by U.S. business firms. Proposed for permanent retention are annual reports to program overseers and reports to Congress.

9. Department of Homeland Security, Immigration and Customs Enforcement (N1-567-09-1, 2 items, 2 temporary items). Master files and outputs of an electronic information system to identify victims of child pornography.

10. Department of the Interior, Office of the Secretary (N1-48-08-27, 3 items, 1 temporary item). Issuances that identify who will act for an absent official. Proposed for permanent retention are issuances that contain policies approved by the Secretary or the Assistant Secretary for Policy Management and Budget.

11. Department of Justice, Environment and Natural Resources Division (N1-60-09-21, 1 item, 1 temporary item). Master files of an electronic information system that contains data concerning personnel.

12. Department of Justice, Executive Office for Immigration Review (N1-60-08-7, 2 items, 1 temporary item). Digital audio recordings of cases heard by Immigration Courts and the Board of Immigration Appeals. Master files of a case tracking system that includes testimony, decisions rendered, and other information concerning each case are proposed for permanent retention.

13. Department of Justice, Executive Office for United States Attorneys (N1-60-09-9, 6 items, 3 temporary items). Vetting reports and summaries of background investigations relating to nominees for U.S. Attorney positions as well as nomination files relating to those who are not appointed or confirmed. Proposed for permanent retention are nomination files relating to those who are appointed and confirmed as well as master files of an electronic information system used to track nominations.

14. Department of Labor, Office of Labor-Management Standards (N1-448-09-1, 5 items, 5 temporary items). Private and public sector collective bargaining agreements covering 1,000 or more workers and related listings and requests for copies received from the public.

15. Department of Transportation, Federal Highway Administration (N1-406-08-8, 31 items, 24 temporary items). Records of the Office of Policy and Government Affairs, including such records as administrative files, files relating to budget and contract matters, drafts of reports, toll facilities files, files relating to the highway trust fund, Web site versions of published highway statistics, and research program files. Proposed for permanent retention are such records as published highway statistics, reports on the status of highways, bridges, and transit submitted to Congress, master files of electronic information systems relating to highway system performance, files relating to foreign highway projects, and master files of an electronic system relating to motor fuel and highway finance.

16. Department of Transportation, Federal Highway Administration (N1-406-09-6, 79 items, 73 temporary items). Records of the Office of Planning, Environment, and Realty, including such records as files relating to routine administrative activities, air quality analyses, right-of-way records, files relating to civil rights activities, property management files, environmental impact records, noise files, records relating to the payback program, project files, research files, airport access records, urban planning files, and public transportation files. Proposed for permanent retention are such records as air quality program files, annual reports, policy files, and speeches made by high officials.

17. Department of Transportation, Federal Highway Administration (N1-406-09-11, 2 items, 2 temporary items). Applications for Federal credit assistance submitted under the Transportation Infrastructure Finance and Innovation Act of 1998.

18. Department of the Treasury, Alcohol and Tobacco Tax and Trade Bureau (N1-564-09-2, 1 item, 1 temporary item). Master files of an electronic information system used to track agency accountable personal property.

19. Department of the Treasury, Alcohol and Tobacco Tax and Trade Bureau (N1-564-09-12, 2 items, 2 temporary items). Master files of an internet-based electronic system which allows industry members to apply on-line for certificates of label approval.

20. Department of the Treasury, Bureau of Engraving and Printing (N1-318-09-1, 3 items, 3 temporary items). Daily production records and other records relating to day-to-day operations and product accountability.

21. Department of the Treasury, Internal Revenue Service (N1-58-09-34, 3 items, 3 temporary items). Inputs, outputs, and master files of an electronic information system used to identify forms missing from electronically filed tax returns.

22. Department of the Treasury, Internal Revenue Service (N1-58-09-35, 3 items, 3 temporary items). Inputs, outputs, and master files of an electronic information system that contains employee performance data.

23. Department of the Treasury, Internal Revenue Service (N1-58-09-36, 3 items, 3 temporary items). Inputs, outputs, and master files of an electronic information system that contains earned income tax credit data.

24. Department of the Treasury, Internal Revenue Service (N1-58-09-42, 4 items, 4 temporary items). Fingerprint cards and professional credentials provided by tax professionals who apply for authorization to transmit tax return information to the agency on behalf of taxpayers.

25. Department of the Treasury, Internal Revenue Service (N1-58-09-43, 1 item, 1 temporary item). Data contained in an electronic system used to transmit sensitive tax-related information that cannot be transmitted using regular electronic mail.

26. Department of the Treasury, Office of Thrift Supervision (N1-483-09-1, 3 items, 3 temporary items). Master files of an electronic information system that is used to store employee contact information and deliver emergency communications to staff.

27. Agency for International Development, Bureau of Global Health (N1-286-09-2, 1 item, 1 temporary item). Data contained in an electronic information system used to track the expenditure of funds, including a module with data on the funding of projects relating to HIV/AIDS.

28. National Archives and Records Administration, Office of Presidential Libraries (N1-64-09-5, 1 item, 1 temporary item). Data contained in an electronic system pertaining to visits, tours, and events at Presidential library museums.

29. National Archives and Records Administration, Office of Regional Records Services (N1-64-08-10, 21 items, 20 temporary items). Records relating to operations and administration of records centers, regional archives, and records management services, including files relating to such matters as the collection and expenditure of funds, outreach activities, the operation of records centers, and records processing activities. Proposed for permanent retention are program records accumulated by Regional Administrators.

Dated: July 27, 2009.
Michael J. Kurtz.
Assistant Archivist for Records Services—Washington, DC.

[FR Doc. E9-18312 Filed 7-29-09; 8:45 am]

BILLING CODE 7515-01-P